GENERAL SERVICES ADMINISTRATION

[Notice-MG-2013-03; Docket No. 2013-0002; Sequence 29]

Office of Federal High-Performance Green Buildings; Green Building Advisory Committee; Notification of Upcoming Public Advisory Committee Meeting and Conference Calls

AGENCY: Office of Government-wide Policy, General Services Administration (GSA).

ACTION: Meeting Notice.

SUMMARY: Notice of this meeting and these conference calls is being provided according to the requirements of the Federal Advisory Committee Act, 5 U.S.C. App. 10(a)(2). This notice provides the agenda and schedule for the November 12, 2013, meeting of the Green Building Advisory Committee Meeting (the Committee) and the schedule for a series of conference calls, supplemented by Web meetings, for two task groups of the Committee. The meeting is open to the public and the site is accessible to individuals with disabilities. The conference calls are open for the public to listen in. Interested individuals must register to attend as instructed below under SUPPLEMENTARY INFORMATION.

DATES: Meeting date: The meeting will be held on Tuesday, November 12, 2013, starting at 9:00 a.m. Eastern time, and ending no later than 3:30 p.m.

Task group conference call dates: The conference calls will be held according to the following schedule:

The Net Zero task group will hold conference calls every Wednesday from October 2nd to November 6th from 1:00 p.m. to 2:00 p.m. Eastern time.

The Building Labels task group will hold conference calls every Friday from October 4th to November 8th from 11:00 a.m. to 12:00 p.m. Eastern time.

FOR FURTHER INFORMATION CONTACT: Ken Sandler, Designated Federal Officer, Office of Federal High-Performance Green Buildings, Office of Government-wide Policy, General Services Administration, 1800 F Street NW., Washington, DC 20405, telephone 202-219-1121 (Note: this is not a toll-free number). Additional information about the Committee, including meeting materials and updates on the task groups and their schedules, will be available on-line at http://www.gsa.gov/portal/content/121999.

SUPPLEMENTARY INFORMATION: Procedures for Attendance and Public Comment: Contact Ken Sandler at 202-219-1121 to register to attend the meeting and/or listen in to and obtain call-in numbers and Web meeting information for any or all of these conference calls. To attend the meeting and/or conference calls, submit your full name, organization, email address, and phone number. Requests to attend the November 12 meeting must be received by 5:00 p.m. eastern standard time on Wednesday, November 6, 2013. Requests to listen in to the calls must be received by 5:00 p.m. Eastern time, Monday, September 30. (GSA will be unable to provide technical assistance to any listener experiencing technical difficulties. Testing access to the Web meeting site in advance of calls is recommended.)

Contact Ken Sandler at 202-219-1121 to register to comment during the November 12th meeting's public comment period. Registered speakers/organizations will be allowed a maximum of 5 minutes each and will need to provide written copies of their presentations. Requests to comment at the meeting must be received by 5:00 p.m. eastern standard time on Wednesday, November 6, 2013. Written comments also may be provided to Mr. Sandler at ken.sandler@gsa.gov until 5:00 p.m. eastern standard time Wednesday, November 6, 2013.

Background: The Green Building Advisory Committee provides advice to GSA as specified in Public Law 110-140, as a mandatory Federal advisory committee. Under this authority, the Committee advises GSA on the rapid transformation of the Federal building portfolio to sustainable technologies and practices. The Committee focuses primarily on reviewing strategic plans, products and activities of the Office of Federal High-Performance Green Buildings and providing advice regarding how the Office can most effectively accomplish its mission.

The Net Zero task group will consider a motion of a committee member to “Strengthen net zero energy commitments for new and existing federal buildings and federal leased buildings.” The Building Labels task group will consider a motion of a committee member to “Require building performance labels [for federal buildings], including current energy and environmental performance.”

The conference calls will focus on how the task groups can best refine these motions into consensus recommendations of each group to the full committee, which will in turn decide whether to proceed with formal advice to GSA based upon these recommendations.

November 12th Meeting Agenda

• Introductions & Plans for Today's Meeting

• Committee Membership Renewal Plans

• Net Zero Federal Buildings

• Federal Building Performance Labels

• Lunch

• Update: GSA Sustainability Plan Progress

• GSA Green Building Demonstration Projects

• Additional Project Updates

• Public Comment Period

Detailed agendas, background information and updates for the meeting and conference calls will be posted on GSA's Web site at http://www.gsa.gov/portal/category/102591.

Meeting Access: The Committee will convene its November 12, 2013, meeting at the U.S. Department of the Interior building, Rachel Carson Room, 1849 C Street, NW., Washington DC 20240, and the site is accessible to individuals with disabilities.

Dated: September 6, 2013.
Kevin Kampschroer,
Federal Director, Office of Federal High-Performance Green Buildings, General Services Administration.

[FR Doc. 2013-22364 Filed 9-12-13; 8:45 am]

BILLING CODE 6820-14-P